DEPARTMENT OF TRANSPORTATION

Federal Railroad Administration

Docket No. [FRA-2000-7257; Notice No. 37]

Railroad Safety Advisory Committee (RSAC); Working Group Activity Update

AGENCY: Federal Railroad Administration (FRA), Department of Transportation (DOT).

ACTION: Announcement of Railroad Safety Advisory Committee (RSAC) Working Group Activities.

SUMMARY: The FRA is updating its announcement of RSAC's Working Group activities to reflect its current status.

FOR FURTHER INFORMATION CONTACT: Patricia Butera or Lydia Leeds, RSAC Coordinator, FRA, 1120 Vermont Avenue, NW., Mailstop 25, Washington, DC 20590, (202) 493-6212/6213 or Grady Cothen, Deputy Associate Administrator for Safety, FRA, 1120 Vermont Avenue, NW., Mailstop 25, Washington, DC 20590, (202) 493-6302.

SUPPLEMENTARY INFORMATION: This notice serves to update FRA's last announcement of working group activities and status reports of May 12, 2006, (71 FR 27781). The 29th full Committee meeting was held May 18, 2006.

Since its first meeting in April of 1996, the RSAC has accepted twenty-two tasks. Status for each of the tasks is provided below:

Open Tasks

Task 96-4—Reviewing the appropriateness of the agency's current policy regarding the applicability of existing and proposed regulations to tourist, excursion, scenic, and historic railroads. This Task was accepted on April 2, 1996, and a Working Group was established. The Working Group monitored the steam locomotive regulation task. Planned future activities involve the review of other regulations for possible adaptation to the safety needs of tourist and historic railroads. Contact: Grady Cothen, (202) 493-6302.

Task 97-2—Evaluating the extent to which environmental, sanitary, and other working conditions in locomotive cabs affect the crew's health and the safe operation of locomotives, proposing standards where appropriate. This Task was accepted June 24, 1997.

(Sanitation) (Completed)

(Noise exposure) On June 27, 2003, the full RSAC gave consensus by ballot on the NPRM. The NPRM was published in the Federal Register on June 23, 2004. The comment period ended September 21, 2004. Task Force and Working Group meetings were held March 1, and March 2 and 3, 2005, respectively, to review the public comments and recommend a final rule. The Working Group reached agreement on all issues, and its report was presented to the full Committee on May 18, 2005. The final rule is in review and clearance.

(Cab Temperature) (Completed)

Note: Additional related topics such as vibration may be considered by the Working Group in the future. Contact: Jeffrey Horn, (202) 493-6283.

Task 03-01—Passenger Safety. This Task was accepted on May 20, 2003, and a Working Group was established. Prior to embarking on substantive discussions of a specific task, the Working Group set forth in writing a specific description of the task. The Working Group will report any planned activity to the full Committee at each scheduled full RSAC meeting, including milestones for completion of projects and progress toward completion. At the first meeting held September 9-10, 2003, a consolidated list of issues was completed. At the second meeting held November 6-7, 2003, four task groups were established: emergency preparedness; mechanical-general issues; mechanical-safety appliances; and track/vehicle interaction. The task groups met and reported on activities for Working Group consideration at the third meeting held May 11-12, 2004, and a fourth meeting was held October 26-27, 2004. The Working Group met on March 21-22, 2006, and tentatively agreed to establish a task force on General Passenger Safety. The Working Group met September 12-13, 2006, and activated the General Passenger Safety Task Force.

(Emergency Preparedness) At the Working Group meeting of March 9-10, 2005, the Working Group received and approved the consensus report of the Emergency Preparedness Task Force related to emergency egress and rescue access. These recommendations were presented to and approved by the full Committee on May 18, 2005. The Working Group met on September 7-8, 2005, and additional, supplementary recommendations were presented to and accepted by the full RSAC on October 11, 2005. An NPRM on Emergency Systems was published on August 24, 2006, and is open for comments until October 23, 2006.

(General Mechanical) Initial recommendations on mechanical issues (revisions to 49 CFR Part 238) were approved by the full Committee on January 26, 2005. At the Working Group meeting of September 7-8, 2005, the task force presented additional perfecting amendments and the full RSAC approved them on October 11, 2005. An NPRM was published in the Federal Register on December 8, 2005, (70 FR 73070). Public comments were due by February 17, 2006. FRA is currently preparing a final rule.

(Passenger Equipment Crashworthiness) The Crashworthiness Task Force provided consensus recommendations on static end strength that were adopted by the Working Group on September 7-8, 2005. The full Committee accepted the recommendations on October 11, 2005. The FRA is preparing an NPRM.

(Vehicle/Track Interaction) The task force is developing proposed revisions to Parts 213 and 238 principally regarding high-speed passenger service. Contact: Charles Bielitz, (202) 493-6314.

Task 05-01—Review of Roadway Worker Protection issues. This Task was accepted on January 26, 2005, to review 49 CFR 214, Subpart C, Roadway Worker Protection, and related sections of Subpart A; recommend consideration of specific actions to advance the on-track safety of railroad employees and contractors engaged in maintenance-of-way activities throughout the general system of railroad transportation, including clarification of existing requirements. A Working Group has been established and will report to the RSAC any specific actions identified as appropriate. The first meeting of the Working Group was held on April 12-14, 2005. The Working Group will report planned activity to the full Committee at each scheduled Committee meeting, including milestones for completion of projects and progress toward completion. The Working Group met on June 22-24, 2005, August 8-11, 2005, September 20-22, 2005, November 8-9, 2005, January 10-11, 2006, February 1-2, 2006, March 15-16, 2006, April 11-12, 2006, and August 22-23, 2006. To date, the group has drafted and accepted regulatory language for various revisions, clarifications, and additions to 16 sections of the rule. The next Working Group meeting is being planned for November, 2006. A meeting is scheduled for January 17-18, 2007, with the final meeting scheduled for February 27-28, 2007. Contact: Christopher Schulte, (202) 493-6251.

Task 05-02—Reduce Human Factor-Caused Train Accident/Incidents. This Task was accepted on May 18, 2005, to reduce the number of human factor-caused train accidents/incidents and related employee injuries. A Working Group was established. The Working Group will report any planned activity to the full Committee at each scheduled full RSAC meeting, including milestones for completion of projects and progress toward completion. The Working Group met on July 12-13, 2005, August 31—September 1, 2005, September 28-29, 2005, October 25-26, 2005, November 16-17, 2005, and December 6-7, 2005. The final Working Group meeting devoted to developing a proposed rule was held February 8-9, 2006. The Working Group was not able to deliver a consensus regulatory proposal, but did recommend that it be used to review comments on FRA's forthcoming NPRM, which is under development with the Working Group's discussion draft as its basis. Contact: Douglas Taylor, (202) 493-6255.

Task 06-01—Locomotive Safety Standards. This task was accepted on February 22, 2006, to review Title 49 CFR Part 229, Railroad Locomotive Safety Standards, and revise as appropriate. A Working Group has been established. The Working Group will report any planned activity to the full Committee at each scheduled full RSAC meeting, including milestones for completion of projects and progress toward completion. The first Working Group meeting was held May 8-10, 2006. The Working Group met on August 8-9, 2006, and the next meeting is scheduled for September 25-26, 2006. Contact: George Scerbo, (202) 493-6249.

Task 06-02—Track Safety Standards and Continuous Welded Rail. Section 9005 of the Safe, Accountable, Flexible, Efficient Transportation Equity Act: A Legacy for Users (Pub. L. No. 109-59, “SAFETEA-LU”), the 2005 surface transportation authorization act, requires FRA to issue requirements for inspection of joint bars in continuous welded rail (CWR) to detect cracks that could affect the integrity of the track structure. 49 U.S.C. 20142(e). FRA published an Interim Final Rule establishing new requirements for inspections on November 2, 2005, (70 FR 66288). On October 11, 2005, FRA offered the RSAC a task to review comments on this IFR, but the conditions could not be established under which the Committee could have undertaken this with a view toward consensus. Comments on the IFR were received through December 19, 2005. FRA is reviewing the comments. On February 22, 2006, the RSAC accepted this task to review and revise the CWR related to provisions of the Track Safety Standards, with particular emphasis on reduction of derailments and consequent injuries and damage caused by defective conditions, including joint failures, in track using CWR. A Working Group has been established. The Working Group will report any planned activity to the full Committee at each scheduled full RSAC meeting, including milestones for completion of projects and progress toward completion. The first Working Group meeting was held April 3-4, 2006, at which time the Working Group reviewed comments on the IFR. The second Working Group meeting was held April 26-28, 2006. The Working Group also met May 24-25, 2006, and July 19-20, 2006. The Working Group reported consensus recommendations for the final rule that were accepted by the full Committee by mail ballot on August 11, 2006. FRA is currently preparing a final rule. Contact: Ken Rusk, (202) 493-6236.

Completed Tasks

Task 96-1—(Completed) Revising the Freight Power Brake Regulations.

Task 96-2—(Completed) Reviewing and recommending revisions to the Track Safety Standards (49 CFR Part 213).

Task 96-3—(Completed) Reviewing and recommending revisions to the Radio Standards and Procedures (49 CFR Part 220).

Task 96-5—(Completed) Reviewing and recommending revisions to Steam Locomotive Inspection Standards (49 CFR Part 230).

Task 96-6—(Completed) Reviewing and recommending revisions to miscellaneous aspects of the regulations addressing Locomotive Engineer Certification (49 CFR Part 240).

Task 96-7—(Completed) Developing Roadway Maintenance Machines (On-Track Equipment) Safety Standards.

Task 96-8—(Completed) This Planning Task evaluated the need for action responsive to recommendations contained in a report to Congress entitled, Locomotive Crashworthiness & Working Conditions.

Task 97-1—(Completed) Developing crashworthiness specifications (49 CFR Part 229) to promote the integrity of the locomotive cab in accidents resulting from collisions.

Task 97-3—(Completed) Developing event recorder data survivability standards.

Task 97-4 and Task 97-5—(Completed) Defining Positive Train Control (PTC) functionalities, describing available technologies, evaluating costs and benefits of potential systems, and considering implementation opportunities and challenges, including demonstration and deployment.

Task 97-6—(Completed) Revising various regulations to address the safety implications of processor-based signal and train control technologies, including communications-based operating systems.

Task 97-7—(Completed) Determining damages qualifying an event as a reportable train accident.

Task 00-1—(Completed—task withdrawn) Determining the need to amend regulations protecting persons who work on, under, or between rolling equipment and persons applying, removing or inspecting rear end marking devices (Blue Signal Protection).

Task 01-1—(Completed) Developing conformity of FRA's regulations for accident/incident reporting (49 CFR Part 225) to revised regulations of the Occupational Safety and Health Administration (OSHA), U.S. Department of Labor, and to make appropriate revisions to the FRA Guide for Preparing Accident/Incident Reports (Reporting Guide).

Please refer to the notice published in the Federal Register on March 11, 1996, (61 FR 9740) for more information about the RSAC.

Issued in Washington, DC, on September 18, 2006.
Grady C. Cothen, Jr.
Deputy Associate Administrator for Safety Standards and Program Development.

[FR Doc. 06-8124 Filed 9-22-06; 8:45 am]

BILLING CODE 4910-06-P